DEPARTMENT OF COMMERCE

National Oceanic and Atmospheric Administration

50 CFR Part 679

RIN 0648-XA209

Fisheries of the Exclusive Economic Zone Off Alaska; Bering Sea and Aleutian Islands King and Tanner Crabs

AGENCY: National Marine Fisheries Service (NMFS), National Oceanic and Atmospheric Administration (NOAA), Commerce.

ACTION: Notice of availability of fishery management plan amendments; request for comments.

SUMMARY: The North Pacific Fishery Management Council submitted Amendments 38 and 39 to the Fishery Management Plan for Bering Sea/Aleutian Islands King and Tanner Crabs (FMP) to NMFS for review. If approved, Amendment 38 would establish a mechanism in the FMP to specify annual catch limits and accountability measures for each crab stock. This action is necessary to account for uncertainty in the overfishing limit and prevent overfishing. If approved, Amendment 39 would modify the snow crab rebuilding plan to define the stock as rebuilt the first year the stock biomass is above the level necessary to produce maximum sustainable yield. Amendments 38 and 39 are intended to promote the goals and objectives of the Magnuson-Stevens Fishery Conservation and Management Act, the FMP, and other applicable laws.

DATES: Written comments on the amendment must be received on or before 5 p.m., Alaska local time, on July 5, 2011.

ADDRESSES: You may submit comments, identified by RIN 0648-XA209, by any one of the following methods:

• Electronic Submissions: Submit all electronic public comments via the Federal eRulemaking Portal http://www.regulations.gov.

• Fax: (907) 586-7557, Attn: Ellen Sebastian

• Mail: P.O. Box 21668, Juneau, AK 99802.

• Hand delivery to the Federal Building: 709 West 9th Street, Room 420A, Juneau, AK.

Instructions: All comments received are a part of the public record and will generally be posted to http://www.regulations.gov without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of Amendments 38 and 39 and the Environmental Assessment prepared for this action may be obtained from the Federal eRulemaking Portal http://www.regulations.gov.

FOR FURTHER INFORMATION CONTACT: Gretchen Harrington, 907-586-7228.

SUPPLEMENTARY INFORMATION: The Magnuson-Stevens Fishery Conservation and Management Act (Magnuson-Stevens Act) requires that each regional fishery management council submit any fishery management plan or fishery management plan amendment it prepares to NMFS for review and approval, disapproval, or partial approval by the Secretary of Commerce. The Magnuson-Stevens Act also requires that NMFS, upon receiving a fishery management plan amendment, immediately publish a notice in the Federal Register announcing that the amendment is available for public review and comment.

This notice announces that proposed Amendments 38 and 39 to the Fishery Management Plan for Bering Sea/Aleutian Islands King and Tanner Crabs (FMP) are available for public review and comment. The crab fisheries in the exclusive economic zone of the Bering Sea and Aleutian Islands are managed under the FMP. The FMP was prepared by the North Pacific Fishery Management Council (Council) under the authority of the Magnuson-Stevens Act, 16 U.S.C. 1801 et seq. The FMP establishes a cooperative management regime that defers many aspects of crab fisheries management to the State of Alaska (State) with Federal oversight. State regulations are subject to the provisions of the FMP, and must be consistent with the Magnuson-Stevens Act and other applicable Federal laws.

The provisions of the Magnuson-Stevens Act, as amended in 2007, establish, either expressly or by logical extension, five basic requirements that relate to and require amendment of the FMP. The Guidelines for National Standard 1 of the Magnuson-Stevens Act (50 CFR 600.310; NS 1 Guidelines) provide guidance to regional fishery management councils about how to satisfy the obligations of the Magnuson-Stevens Act relative to the prevention of overfishing, achievement of optimum yield, and establishment of annual catch limits. The following is a summary of these five requirements.

(1) The FMP must provide for the specification of annual catch limits (ACLs) that will prevent overfishing.

(2) The FMP must establish an acceptable biological catch (ABC) control rule that accounts for relevant sources of scientific uncertainty.

(3) The Council's Scientific and Statistical Committee must provide the Council with scientific advice on the ABC control rule and periodic recommendations for specifying the ABC for each fishery.

(4) The FMP must establish accountability measures that prevent exceeding the ACLs and to correct overages of the ACL if they do occur.

(5) The FMP must describe the maximum sustainable yield and assess and specify the optimum yield for the fishery.

The Council unanimously recommended Amendment 38 to explicitly address these five basic requirements while maintaining the FMP's cooperative management regime that relies on State expertise in collecting and analyzing scientific data on crab and in establishing the total allowable catches (TACs). In addition, by recommending this approach, the Council acknowledges that the precautionary approach that is currently employed by the State in setting TAC further reduces the risk of realizing overfishing by incorporating variable scientific information that cannot be quantified in a control rule.

Annual Catch Limits and Acceptable Biological Catch

Amendment 38 would establish ABC control rules in the FMP and set the ACL equal to the ABC. Annually, the ABC control rule would be used to set the maximum ABC for each crab stock below the overfishing level (OFL) set for that stock. This mechanism would ensure that, at the maximum ABC, the probability of overfishing is less than 50 percent.

The ABC control rules would be incorporated into the existing five-tier system used to set the OFLs. Annually, the Scientific and Statistical Committee assigns each crab stock to one of five tiers based on an evaluation of the reliable information available for that stock. No crab stocks have sufficient information to be in Tiers 1 or 2. Tier 3 stocks have sufficient information for the stock assessment model to estimate the biomass level and fishing rate necessary to achieve maximum sustainable yield. Tier 4 stocks have a stock assessment model that estimates biomass using the historical performance of the fishery and information from other stocks as necessary to estimate biological parameters. Tier 5 stocks have no reliable estimates of biomass and only historical catch data is available.

For crab stocks in Tiers 1 through 4, the ABC control rule would calculate a buffer below the OFL using a 49 percent probability that the ABC exceeds the true, but unknown, OFL (noted as P*=0.49) and a probability distribution for the OFL. Scientific uncertainty would be incorporated into the ABC-setting process though the annual specification of the probability distribution for the OFL, which accounts for scientific uncertainty in the estimate of OFL and any other specified scientific uncertainty. The resulting ABC, and corresponding ACL, would be a total catch limit comprised of three catch components: (1) Non-directed fishery discard losses; (2) directed fishery discard losses; and (3) directed fishery retained catch. A discussion of this approach is provided in the Environmental Assessment (see ADDRESSES).

To better understand and incorporate scientific uncertainty, Amendment 38 would direct the Crab Plan Team and the Scientific and Statistical Committee to annually evaluate and make recommendations on (1) The specification of the probability distribution of the OFL, (2) the methods to appropriately quantify uncertainty in the OFL estimate for the ABC control rule, and (3) the factors influencing scientific uncertainty that the State would account for on an annual basis in TAC-setting. The end result would be to incorporate additional scientific uncertainty into the ABC control rule where possible while continuing to consider uncertainty in the TAC-setting process.

In developing this approach, the Council recognized that some scientific uncertainty relative to crab stock conditions is not applicable to the OFL setting process and is better addressed through the State TAC-setting process. This approach relies on the State to incorporate additional buffering to account for uncertainty through the annual TAC specification process and recognizes the State's role and expertise in crab research and management under the FMP. Additional uncertainty includes (1) management uncertainty (i.e., uncertainty in the ability of managers to constrain catch so the ACL is not exceeded and uncertainty in quantifying the true catch amount) and (2) scientific uncertainty identified and not already accounted for in the ABC. The State currently considers many factors that influence estimates of uncertainty in TAC-setting. The State also has the flexibility to use the expertise of its managers and biologists to be more conservative than existing harvest strategies as necessary to prevent overfishing and meet State management goals and Federal requirements. A discussion of the State's TAC-setting process is provided in the Environmental Assessment (see ADDRESSES).

For crab stocks in Tier 5, the ABC control rule would set the maximum ABC at 10 percent below the OFL. No annual consideration of uncertainty is required for Tier 5 stocks because scientific uncertainty in the OFL estimate is incorporated in the size of the buffer. The State would consider additional scientific uncertainty and management uncertainty in the TAC-setting process. For Tier 5 stocks where only retained catch information is available, the OFL and ABC would be set for the retained catch portion only. For Tier 5 stocks where information on bycatch mortality is available, the OFL and ABC calculations could include discard losses, at which point the OFL and ABC would be applied to the retained catch plus the discard losses from directed and non-directed fisheries.

Scientific and Statistical Committee

The Council's Scientific and Statistical Committee would annually establish the ABC for each crab stock through the following process. First, the stock assessment author would prepare the stock assessment and recommend a proposed OFL and an ABC (at or less than the maximum ABC). Next, the Crab Plan Team would review the stock assessment and make recommendations on the OFL and ABC. The Scientific and Statistical Committee would then review the stock assessment documents, recommendations from the Crab Plan Team, and methods for addressing scientific uncertainty, and set the final OFL and ABC for each stock. The Scientific and Statistical Committee may set an ABC lower than the maximum ABC calculated using the ABC control rule, but it must provide an explanation for why a lower ABC was set.

Accountability Measures

Amendment 38 would establish accountability measures to comply with the Magnuson-Stevens Act requirement that FMPs include accountability measures to prevent ACLs from being exceeded and to correct overages of the ACL if they do occur.

Accountability measures to prevent TACs from being exceeded, and to account for and minimize crab bycatch, are used in crab fishery management and would continue to be used to prevent ACLs from being exceeded. These accountability measures include: individual fishing quotas and the measures implemented under the Crab Rationalization Program to ensure that individual fishing quotas are not exceeded, measures to minimize crab bycatch in directed crab fisheries, and monitoring and catch accounting measures. These measures have been effective at preventing the TAC from being exceeded since the start of the Crab Rationalization Program in 2005.

Accountability measures in the ABC-setting process would include downward adjustments to the ABC in the fishing season after an ACL has been exceeded. If catch exceeds the ACL, a lower maximum ABC in the subsequent season would result because maximum ABC varies directly with biomass, except for Tier 5 stocks. For Tier 5 stocks, the information used to establish the ABC is insufficient to reliably estimate abundance or discern the existence or extent of biological consequences caused by exceeding the ACL. Consequently, the subsequent fishing season's maximum ABC would not automatically decrease. However, when the ACL for a Tier 5 stock has been exceeded, the Scientific and Statistical Committee may choose to recommend a decrease in the ABC for the subsequent fishing season as an accountability measure.

Given that the State sets the TAC, Amendment 38 also includes accountability measures for the State to exercise in the annual TAC-setting process. First, Amendment 38 would require that the State establish the annual TAC for each crab stock at a level sufficiently below the ACL so that the sum of the total catch (including all bycatch mortality and any uncertainty in bycatch estimates) and the State's assessment of additional uncertainty in the OFL estimate will not exceed the ACL. At the end of the fishing year, the total catch would be calculated and compared to the ACL.

Second, if an ACL is exceeded, the FMP would require that the State implement accountability measures to account for any biological consequences to the stock resulting from the overage through a downward adjustment to the TAC for that species in the following fishing season. Note that this TAC adjustment is in additional to the downward adjustment to the ABC in the ABC-setting process discussed previously. This accountability measure would be under the FMP's category 2, which means that the State has the discretion under the FMP to determine the most appropriate method to account for any catch above the ACL in setting the TAC for the subsequent fishing season.

The Council recognized that these accountability measures place the burden of accountability only on the directed crab fishery. Measures to minimize crab bycatch in the groundfish fisheries currently include prohibited species catch limits and area closures. The Council has initiated a comprehensive analysis of crab bycatch in the Bering Sea and Aleutian Islands groundfish fisheries to assess these existing crab protection measures and to determine whether changes or additional measures are necessary to further limit crab bycatch in the groundfish fisheries.

Optimum Yield

Amendment 38 would amend the FMP to establish an optimum yield range of 0 to less that the OFL catch. For crab stocks, the OFL is the annualized maximum sustainable yield (MSY) and is derived through the annual assessment process, under the framework of the tier system. Recognizing the relatively volatile reproductive potential of crab stocks, the cooperative management structure of the FMP, and the past practice of restricting or even prohibiting directed harvests of some stocks out of ecological considerations, this optimum yield range is intended to facilitate the achievement of the biological objectives and economic and social objectives of the FMP under a variety of future biological and ecological conditions. It enables the State to determine the appropriate TAC levels below the OFL to prevent overfishing or address other biological concerns that may affect the reproductive potential of a stock but that are not reflected in the OFL itself. The State establishes TACs at levels that maximize harvests, and associated economic and social benefits, when biological and ecological conditions warrant doing so.

Snow Crab Rebuilding Plan

Amendment 39 would modify the existing snow crab rebuilding plan to define “rebuilt” as the first year that the estimated biomass is above the level necessary to produce maximum sustainable yield, rather than the second consecutive year as currently defined. The Scientific and Statistical Committee recommended that a one year threshold is appropriate for snow crab based on the approved stock assessment model.

An Environmental Assessment was prepared for Amendments 38 and 39 that describes the management background, the purpose and need for action, the management alternatives, and the environmental, social, and economic impacts of the alternatives (see ADDRESSES).

Public comments are being solicited on proposed Amendments 38 and 39 to the FMP. NMFS will consider all public comments received by the end of the comment period in the approval/disapproval decision on Amendments 38 and 39. To be considered, comments must be received, not just postmarked or otherwise transmitted, by 5 p.m. Alaska local time on the last day of the comment period (see DATES). Comments received after that date will not be considered in the approval/disapproval decision on the amendments.

Authority: 16 U.S.C. 1801 et seq.

Dated: April 28, 2011.
Samuel D. Rauch III,
Deputy Assistant Administrator for Regulatory Programs, National Marine Fisheries Service.

[FR Doc. 2011-10798 Filed 5-3-11; 8:45 am]

BILLING CODE 3510-22-P